ENVIRONMENTAL PROTECTION AGENCY

[ER-FRL-6608-7]

Environmental Impact Statement and Regulations; Availability of EPA Comments

Availability of EPA comments prepared June 12, 2000 Through June 16, 2000 pursuant to the Environmental Review Process (ERP), under Section 309 of the Clean Air Act and Section 102(2)(c) of the National Environmental Policy Act as amended. Requests for copies of EPA comments can be directed to the Office of FEDERAL ACTIVITIES AT (202) 564-7167.

An explanation of the ratings assigned to draft environmental impact statements (EISs) was published in FR dated April 14, 2000 (65 FR 20157).

Draft EISs

ERP No. D-AFS-L65356-ID Rating NR, Box Canyon Timber Sale, Vegetative Management, Implementation, Palisades Ranger District, Caribou-Targhee National Forest, Bonneville County, ID.

SUMMARY: EPA Region 10 used a screening tool to conduct a limited review of this action. Based upon this screen, EPA does not foresee having any environmental objections to the proposed project.

ERP No. D-COE-C39014-NJ Rating EO2, Raritan Bay and Sandy Hook Bay, Hurricane and Storm Damage Reduction Project, Flood Control and Storm Damage Protection, Port Monmouth, Middletown Township, Monmouth County, NJ.

SUMMARY: EPA objected to the proposed mitigation plan, and recommended wetlands enhancement at a 3:1 ratio or creation of a Spartina dominated wetland at a 1:1 ratio. EPA requested more information on enhancement, monitoring, and borrow areas.

Final EISs

ERP No. F-SFW-L03009-AK Wolf Lake Area Natural Gas Pipeline Project, Construction, Approval Right-of-Way Grant and COE Section 404 Permit, Kenai National Wildlife Refuge, AK.

SUMMARY: No formal comment letter was sent to the preparing agency.

Dated: June 27, 2000.
Joseph C. Montgomery,
Director, NEPA Compliance Division, Office of Federal Activities.

[FR Doc. 00-16657 Filed 6-29-00; 8:45 am]

BILLING CODE 6560-50-M